DEPARTMENT OF COMMERCE

National Oceanic and Atmospheric Administration

Agency Information Collection Activities; Submission to the Office of Management and Budget (OMB) for Review and Approval; Comment Request; Pacific Islands Region Permit Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 12th, 2023 during a 60-day comment period. This notice allows for an additional 30 days for public comments.

Agency: National Marine Fisheries Service (NMFS), Commerce.

Title: Pacific Islands Region Permit Family of Forms.

OMB Control Number: 0648-0490.

Form Number(s): None.

Type of Request: Regular submission [extension of a current information collection].

Number of Respondents: 263.

Average Hours per Response: 0.5 hr.

Total Annual Burden Hours: 134.

Needs and Uses: This request is for an extension of a currently approved information collection.

The Magnuson-Stevens Fishery Conservation and Management Act established the Western Pacific Fishery Management Council (Council), to develop fishery ecosystem plans (FEP) for fisheries in the United States (U.S.) exclusive economic zone (EEZ) and high seas of the Pacific Islands region. These plans, if approved by the Secretary of Commerce, are implemented in Federal regulations by the National Oceanic and Atmospheric Administration's (NOAA) National Marine Fisheries Service (NMFS) and enforced by NOAA's Office of Law Enforcement (OLE) and the U.S. Coast Guard (USCG), in cooperation with state and territorial agencies. FEPs regulate fishing to prevent overfishing and to ensure the long-term productivity and social and economic benefit of the resources.

Regulations at 50 CFR 665, subpart F, require that a vessel used to fish with longline gear for western Pacific pelagic management unit species (PMUS), land or transship longline caught PMUS, or receive longline caught PMUS from a longline vessel, within the Exclusive Economic Zone (EEZ) or management subarea around U.S. islands in the central and western Pacific must be registered to a valid Federal fishing permit. The regulations also require that a vessel used to fish with squid jig gear for pelagic squid species listed in the western Pacific PMUS within the EEZ or management subareas around U.S. islands in the central and western Pacific, or fish with troll and handline gear for PMUS in allowed locations within the EEZ around each of the Pacific Remote Island Areas (PRIA), must be registered to a valid Federal fishing permit.

Regulations at 50 CFR parts 665, subparts D and E, require that the owner of a vessel used to fish for, land, or transship bottomfish management unit species (BMUS) using a large vessel (50 ft or longer) in the Guam management subarea, fish commercially for BMUS in the Commonwealth of the Northern Mariana Islands management subarea, or fish for BMUS in allowed locations within the EEZ around each of the PRIA, must register it to a valid Federal fishing permit.

Regulations at 50 CFR parts 665, subparts B, C, D, and E, require that the owner of a vessel used to fish for, land, or transship crustacean management unit species (CMUS) in the EEZs or management subareas around American Samoa, Hawaii, Guam, Northern Mariana Islands, or in allowed locations within the EEZ around each of the PRIA, must register it to a valid Federal fishing permit. The regulations also require that a vessel used to fish for precious corals within the EEZ or management subarea around U.S. islands in the central and western Pacific must be registered to a valid Federal fishing permit for a specific precious coral permit area.

This collection of information is needed for permit issuance, to identify actual or potential participants in the fishery, determine qualifications for permits, and to help measure the impacts of management controls on the participants in the fishery. The permit program is also an effective tool in the enforcement of fishery regulations and facilitates communication between NMFS and fishermen.

Affected Public: Business or other for-profit organizations; individuals or households; not-for-profit institutions; state, local, or tribal government; Federal government.

Frequency: Annually, or as required.

Respondent's Obligation: Mandatory.

Legal Authority: 50 CFR 665.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0490.

Sheleen Dumas,
Department PRA Clearance Officer, Office of the Under Secretary for Economic Affairs, Commerce Department.

[FR Doc. 2024-04632 Filed 3-4-24; 8:45 am]

BILLING CODE 3510-22-P